DEPARTMENT OF HEALTH AND HUMAN SERVICES

Indian Health Service

Office of Clinical and Preventive Services; Division of Behavioral Health; Domestic Violence Prevention Initiative

Announcement Type: New —Limited Competition

Funding Announcement Number: HHS-2015-IHS-DVPI-0001

Catalog of Federal Domestic Assistance Number (CFDA): 93.933

Key Dates

Application Deadline Date: September 8, 2015

Review Date: September 14-18, 2015

Earliest Anticipated Start Date: September 30, 2015

Signed Tribal Resolutions Due Date: September 11, 2015

Proof of Non-Profit Status Due Date: September 8, 2015

I. Funding Opportunity Description

Statutory Authority

The Indian Health Service (IHS), an agency which is part of the Department of Health and Human Services (HHS), is accepting applications for a five-year funding cycle, to continue the planning, development, and implementation of the Domestic Violence Prevention Initiative (Short Title: DVPI). This program was first established by the Omnibus Appropriations Act of 2009, Public Law 111-8, 123 Stat. 524, 735, and continued in the annual appropriations acts since that time. This program is authorized under the authority of 25 U.S.C. 13, the Snyder Act, and the Indian Health Care Improvement Act, 25 U.S.C. 1601-1683. The amounts made available for the DVPI shall be allocated at the discretion of the Director, IHS and shall remain available until expended. IHS utilizes a national funding formula developed in consultation with Tribes and the National Tribal Advisory Committee (NTAC) on behavioral health, as well as conferring with urban Indian health programs (UIHPs). The funding formula provides the allocation methodology for each IHS Service Area. This program is described in the Catalog of Federal Domestic Assistance under 93.933.

Background

From August 2010-August 2015, IHS funded 65 IHS, Tribal, Tribal organizations, and UIHPs that participated in a nationally coordinated five-year demonstration pilot project to expand outreach and increase awareness of domestic and sexual violence and provide victim advocacy, intervention, case coordination, policy development, community response teams, and community and school education programs. The DVPI promotes the development of evidence-based and practice-based models that represent culturally appropriate prevention and treatment approaches to domestic and sexual violence from a community-driven context. For a complete listing of demonstration pilot projects, please visit www.ihs.gov/dvpi/pilotprojects.

Purpose

The primary purpose of this grant program is to accomplish the DVPI goals listed below:

1. Build Tribal, UIHP, and Federal capacity to provide coordinated community responses to American Indian/Alaska Native (AI/AN) victims of domestic and sexual violence.

2. Increase access to domestic and sexual violence prevention, advocacy, crisis intervention, and behavioral health services for AI/AN victims and their families.

3. Promote trauma-informed services for AI/AN victims of domestic and sexual violence and their families.

4. Offer healthcare provider and community education on domestic and sexual violence.

5. Respond to the healthcare needs of AI/AN victims of domestic and sexual violence.

6. Incorporate culturally appropriate practices and/or faith-based services for AI/AN victims of domestic and sexual violence.

To accomplish the DVPI goals, IHS invites applicants to address one of the Purpose Areas below:

• Purpose Area 1: Domestic and Sexual Violence Prevention, Advocacy, and Coordinated Community Responses

• Purpose Area 2: Provide Forensic Healthcare Services

In certain circumstances, applicants may choose to apply for more than one Purpose Area. If this is the case, applicants must submit a separate application for each Purpose Area. IHS encourages applicants to develop and submit applications that emphasize cross-system collaboration among the Purpose Areas, the inclusion of family, youth and community resources, and the application of cultural approaches.

Evidence-Based Practices, Practice-Based Evidence, Promising Practices, and Local Efforts

IHS strongly emphasizes the use of data and evidence in policymaking and program development and implementation. Applicants under each Purpose Area must identify one or more evidence-based practice, practice-based evidence, best or promising practice, and/or local effort they plan to implement in the Project Narrative section of their application. The DVPI Web site (http://www.ihs.gov/dvpi/bestpractices/) is one resource that applicants may use to find information to build on the foundation of prior domestic and sexual violence prevention and treatment efforts, in order to support the IHS, Tribes, Tribal organizations, and UIHPs in developing and implementing Tribal and/or culturally appropriate domestic and sexual violence prevention and early intervention strategies.

Purpose Areas

Purpose Area 1: Domestic and Sexual Violence Prevention, Advocacy, and Coordinated Community Responses: IHS is seeking applicants to address the following broad objectives:

• Expand crisis intervention, counseling, advocacy, behavioral health, and case management services to victims of domestic and sexual violence;

• Foster coalitions and networks to improve coordination and collaboration among victim service providers, healthcare providers, and other responders;

• Educate and train service providers on trauma, domestic violence, and sexual assault and its impact on victims;

• Promote community education for adults and youth on domestic and sexual violence;

• Improve organizational practices to improve services for individuals seeking services for domestic and sexual violence;

• Establish coordinated community response policies, protocols, and procedures to enhance domestic and sexual violence intervention and prevention;

• Integrate culturally appropriate practices and/or faith-based services to facilitate the social and emotional well-being of victims and their children; and

• Implement trauma informed care interventions to support victims and their children.

Purpose Area 2: Forensic Healthcare: IHS is seeking applicants to address the following broad objectives:

• Expand available medical forensic services to victims of domestic and sexual violence;

• Foster coalitions and networks to improve coordination and collaboration among forensic healthcare programs to ensure adequate services exist either on-site or by referral for victims of domestic and sexual violence 24/7 year round;

• Educate and train providers to conduct medical forensic examinations;

• Promote community education on available medical forensic services;

• Improve health system organizational practices to improve medical forensic services and care coordination among victim services;

• Establish local health system policies for sexual assault, domestic violence, and child maltreatment;

• Integrate culturally appropriate treatment services throughout the medical forensic examination process; and

• Implement trauma informed care interventions to support victims and their children.

Limited Competition Justification

There is limited competition under this announcement because the authorizing legislation restricts eligibility to Tribes that meet specific criteria. See the Consolidated Appropriations Act of 2008, Public Law 110-161, 121 Stat. 1844, 2135.

II. Award Information

Type of Award

Grant.

Estimated Funds Available

The total amount of funding identified for the current fiscal year (FY) 2015 is approximately $7,600,000. Individual award amounts are anticipated to be from $50,000 to $200,000. IHS expects to allocate funding for the 12 IHS service areas as described below. Applicants will be awarded according to their location within their respective IHS service area and will not compete with applicants from other IHS service areas. UIHP applicants will be selected from a category set aside for UIHP applicants only. UIHP awards will be $100,000 each. The amount of funding available for competing and continuation awards issued under this announcement are subject to the availability of appropriations and budgetary priorities of the Agency. IHS is under no obligation to make awards that are selected for funding under this announcement.

Anticipated Number of Awards

The number of anticipated awards is dependent on the number of applications received in response to the announcement and available funds. The funding breakdown by area is as follows:

Alaska IHS Service Area

IHS expects to provide $1,100,500 in total awards for a 12-month project period.

Albuquerque IHS Service Area

IHS expects to provide $332,000 in total awards for a 12-month project period.

Bemidji IHS Service Area

IHS expects to provide $326,500 in total awards for a 12-month project period.

Billings IHS Service Area

IHS expects to provide $303,500 in total awards for a 12-month project period.

California IHS Service Area

IHS expects to provide $235,000 in total awards for a 12-month project period.

Great Plains IHS Service Area

IHS expects to provide $1,008,100 in total awards for a 12-month project period.

Nashville IHS Service Area

IHS expects to provide $144,000 in total awards for a 12-month project period.

Navajo IHS Service Area

IHS expects to provide $1,155,700 in total awards for a 12-month project period.

Oklahoma City IHS Service Area

IHS expects to provide $1,365,500 in total awards for a 12-month project period.

Phoenix IHS Service Area

IHS expects to provide $578,000 in total awards for a 12-month project period.

Portland IHS Service Area

IHS expects to provide $351,700 in total awards for a 12-month project period.

Tucson IHS Service Area

IHS expects to provide $99,500 in total awards for a 12-month project period.

Urban Indian Health Programs

IHS expects to provide $600,000 in total awards for a 12-month project period.

Project Period

The project period is for five years and will run consecutively from September 30, 2015, to September 29, 2020.

Continuation Applications

The current funding announcement is a request for the submission of proposals for a five-year project proposal; however due to the limited amount of funding available for competing and continuation awards issued under this announcement, the funds are subject to the availability of appropriations and budgetary priorities of the Agency (also reference “Estimated Funds Available” in this section, “Award Information”). Therefore, awardees will be required to submit a Continuation Application at the end of each project year (dates to be determined) after the initial funding award for Project Year 1, which will assist in determining continued funding from Project Year to Project Year for the five-year project funding cycle. Awardees will be required to submit an entire application package including all components listed under “Content and Form Application Submission” in the GrantSolutions System to assist in determination of continued funding.

The continuation applications will assist IHS in ensuring that all awardees are meeting their goals and objectives, carrying out project activities, and submitting required documentation in a timely manner according to the terms and conditions of their Notice of Award (NoA) and the behavioral health program requirements.

III. Eligibility Information

1. Eligibility

To be eligible for this “Limited Competition” in an effort to address behavioral health disparities within AI/AN communities, IHS is limiting eligibility to Federally recognized Tribes, Tribal organizations, and Urban Indian organizations. Eligible applicants are as follows:

• Federally recognized Indian Tribe, as defined by 25 U.S.C. 1603(14);

• Tribal organization, as defined by 25 U.S.C. 1603(26);

• Urban Indian organization as defined by 25 U.S.C. 1603(29). Applicants must provide proof of non-profit status with the application, e.g., 501(c)(3).

Note: Please refer to “Tribal Resolution” subsection and Section IV.2 (Application and Submission Information/Subsection 2, Content and Form of Application Submission) for additional proof of applicant status documents required such as Tribal resolutions, proof of non-profit status, etc.

2. Cost Sharing or Matching

IHS does not require matching funds or cost sharing for grants or cooperative agreements.

3. Other Requirements

a. If application budgets exceed the highest dollar amount outlined under the “Estimated Funds Available” section within this funding announcement, the application will be considered ineligible and will not be reviewed for further consideration. If deemed ineligible, IHS will not return the application. The applicant will be notified by email by the Division of Grants Management (DGM) of this decision.

b. Awardee Meetings

Awardees are required to send the Project Director and/or Project Coordinator (the individual who runs the day-to-day project operations) to an annual DVPI meeting. Participation will be in-person or virtual meetings. The awardee is required to include travel for this purpose in the budget and narrative of the project proposal. At these meetings, awardees will present updates and results of their projects including note of significant or ongoing concerns related to project implementation or management. Federal staff will provide updates and technical assistance to awardees in attendance.

The in-person meeting location(s) will be determined at a later date but for purposes of project budget development, awardees should estimate costs for Denver, CO as a potential site that is accessible to most of “Indian Country.” Attendance at these meetings is mandatory for the Project Director/Project Coordinator.

Tribal Resolution

Signed Tribal Resolution—A signed Tribal resolution from each of the Indian Tribes served by the project must accompany the electronic application submission. An Indian Tribe that is proposing a project affecting another Indian Tribe must include resolutions from all affected Tribes to be served. Applications by Tribal organizations will not require a specific Tribal resolution if the current Tribal resolution(s) under which they operate would encompass the proposed grant activities.

Draft Tribal resolutions are acceptable in lieu of an official signed resolution and must be submitted along with the electronic application submission prior to the official application deadline date or prior to the start of the Objective Review Committee (ORC) date. However, an official signed Tribal resolution must be received by DGM prior to the beginning of the objective review. If an official signed resolution is not received by the review date listed under the Key Dates section on page one of this announcement, the application will be considered incomplete and ineligible.

Official signed Tribal resolutions can be mailed to DGM, Attn: Patience Musikikongo, 801 Thompson Avenue, TMP Suite 360, Rockville, Maryland 20852. Applicants submitting Tribal resolutions after or aside from the required online electronic application submission must ensure that the information is received by IHS/DGM. It is highly recommended that the documentation be sent by a delivery method that includes delivery confirmation and tracking. Please contact Ms. Patience Musikikongo by telephone at (301) 443-2059 prior to the review date regarding submission questions.

Proof of Non-Profit Status

Organizations claiming non-profit status must submit proof. A copy of the 501(c)(3) Certificate must be received with the application submission by the application deadline date listed under the Key Dates section on page one of this announcement.

An applicant submitting any of the above additional documentation after the initial application submission due date is required to ensure the information was received by IHS by obtaining documentation confirming delivery (i.e. FedEx tracking, postal return receipt, etc.).

IV. Application and Submission Information

1. Obtaining Application Materials

The application package and detailed instructions for this announcement can be found at http://www.Grants.gov or https://www.ihs.gov/dgm/index.cfm?module=dsp_dgm_funding.

Questions regarding the electronic application process may be directed to Mr. Paul Gettys at (301) 443-2114 or (301) 443-5204.

2. Content and Form Application Submission

The applicant must include the project narrative as an attachment to the application package. Mandatory documents for all applicants include:

• Cover letter.

• Table of contents.

• Abstract (must be single-spaced and should not exceed one page).

• Application forms:

○ SF-424, Application for Federal Assistance.

○ SF-424A, Budget Information—Non-Construction Programs.

○ SF-424B, Assurances—Non-Construction Programs.

• Statement of Need (must be single-spaced and not exceed two pages).

○ Includes the Tribe, Tribal organization or UIHP background information.

• Project Narrative (must be included as an attachment to the application package and must be single-spaced and not exceed 20 pages).

○ Proposed scope of work, goals and objectives, and activities that provide a description of what will be accomplished, including a one-page timeline chart, and a plan for local data collection.

• Budget and Budget Narrative (must be single-spaced and not exceed four pages).

• Tribal Resolution or Tribal Letter of Support (only required for Tribes and Tribal organizations).

○ See Key Dates for separate due date submission requirement

• Letter(s) of Support from organization's Board of Directors (or relevant equivalent), Local Organizational Partners and Tribal or Urban Indian Organizational and Community Partners (All Applicants).

• 501(c)(3) Certificate (if applicable).

• Biographical sketches for all key personnel.

• Position descriptions for all key personnel.

• Contractor/consultant resumes or qualifications and scope of work.

• Disclosure of Lobbying Activities (SF-LLL).

• Certification Regarding Lobbying (GG-Lobbying Form).

• Copy of current Negotiated Indirect Cost rate (IDC) agreement (required) in order to receive IDC.

• Organizational Chart (optional).

• Documentation of current Office of Management and Budget (OMB) A-133 required Financial Audit or other required audit (if applicable).

Acceptable forms of documentation include:

○ Email confirmation from Federal Audit Clearinghouse (FAC) that audits were submitted; or

○ Face sheets from audit reports. These can be found on the FAC Web site: http://harvester.census.gov/sac/dissem/accessoptions.html?submit=Go+To+Database.

Public Policy Requirements

All Federal-wide public policies apply to IHS grants and cooperative agreements with exception of the discrimination policy.

Requirements for Project and Proposals

The project narrative should be a separate Word document that is no longer than 20 pages and must: be single-spaced, type written, consecutively numbered pages, using black type not smaller than 12 characters per one inch, and be printed on one side only of standard size 8½″ x 11″ paper.

Succinctly address and answer all questions listed under required application components and place all responses and required information in the correct section (noted below), or they shall not be considered or scored. These narratives will assist the ORC in becoming familiar with the applicant's activities and accomplishments prior to this grant award. If the narrative exceeds the page limit, only the first twenty (20) pages will be reviewed. The 20-page limit for the narrative does not include the cover letter, table of contents, abstract, statement of need, standard forms, Tribal resolutions, budget and budget narrative, and/or other appendix items.

Applications must include the following REQUIRED application components:

• Cover Letter—Includes the title of the program and all contact information for the Tribe/Tribal organization or UIHP.

• Table of Contents

• Abstract—Provides a summary of all the key information for the project. Must not exceed one single-spaced page.

• Statement of Need—Provides the facts and evidence that support the need for the project and establishes that the Tribe/Tribal organization or UIHP understands the problems and can reasonably address them. Provides background information on the Tribe/Tribal organization or UIHP. May not exceed two single-spaced pages.

• Project Narrative—The project narrative (description) describes the project. May not exceed 20 single-spaced pages.

Required components in the project narrative are as follows:

A. Goals and Objectives

B. Project Activities

C. Timeline Chart

D. Organization Capacity and Staffing/Administration

E. Plan for Local Data Collection

• Budget and Budget Narrative—Applicants are to submit a budget and budget narrative for Project Year 1 only. The budget and budget narrative must include a line item budget with a narrative justification for all expenditures identifying reasonable and allowable costs necessary to accomplish the goals and objectives as outlined in the project narrative for the first project year expenses only. The budget and budget narrative may not exceed four single-spaced pages for both documents combined.

The DVPI Proposal Template and associated templates for the Timeline Chart, Biographical Sketch, Budget and Budget Narrative, can be located and downloaded at the DVPI Web site: www.ihs.gov/dvpi/fundingannouncement.

3. Submission Dates and Times

Applications must be submitted electronically through Grants.gov by 11:59 p.m. Eastern Daylight Time (EDT) on the application deadline date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Paul Gettys (Paul.Gettys@ihs.gov), DGM Grant Systems Coordinator, by telephone at (301) 443-2114 or (301) 443-5204. Please be sure to contact Mr. Gettys at least ten (10) days prior to the application deadline. Please do not contact DGM until you have received a Grants.gov tracking number. In the event you are not able to obtain a tracking number, call DGM as soon as possible.

If the applicant needs to submit a paper application instead of submitting electronically through Grants.gov, a waiver must be requested. Prior approval must be requested and obtained from Ms. Tammy Bagley, Acting Director, DGM, (see Section IV.6 below for additional information). The waiver must: 1) be documented in writing (emails are acceptable) before submitting a paper application, and 2) include clear justification for the need to deviate from the required electronic grants submission process. A written waiver request must be sent to GrantsPolicy@ihs.gov with a copy to Tammy.Bagley@ihs.gov. Once the waiver request has been approved, the applicant will receive a confirmation of approval email containing submission instructions and the mailing address to submit the application. A copy of the written approval must be submitted along with the hardcopy of the application that is mailed to DGM. Paper applications that are submitted without a copy of the signed waiver from the Acting Director, DGM will not be reviewed or considered for funding. The applicant will be notified via email of this decision by the Grants Management Officer, DGM. Paper applications must be received by DGM no later than 5:00 p.m., EST, on the application deadline date listed in the Key Dates section on page one of this announcement. Late applications will not be accepted for processing or considered for funding.

4. Intergovernmental Review

Executive Order 12372 requiring intergovernmental review is not applicable to this program.

5. Funding Restrictions

• Pre-award costs are not allowable.

• The available funds are inclusive of direct and appropriate indirect costs.

• Only one grant/cooperative agreement will be awarded per applicant.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant receives a waiver to submit paper application documents, they must follow the rules and timelines that are noted below. The applicant must seek assistance at least ten (10) days prior to the application deadline date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting the application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the Agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to DGM by the application deadline date listed in the Key Dates section on page one of this announcement.

• Applicants are strongly encouraged not to wait until the deadline date to begin the application process through Grants.gov as the registration process for SAM and Grants.gov could take up to fifteen working days.

• Please use the optional attachment feature in Grants.gov to attach additional documentation that may be requested by DGM.

• All applicants must comply with any page limitation requirements described in this funding announcement.

• After electronically submitting the application, the applicant will receive an automatic acknowledgment from Grants.gov containing a Grants.gov tracking number. DGM will download the application from Grants.gov and provide necessary copies to the appropriate agency officials. Neither DGM nor the behavioral health program will notify the applicant that the application has been received.

• Email applications will not be accepted under this announcement.

• IHS will not acknowledge receipt of applications.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (Transparency Act), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that are not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with SAM is free of charge. Applicants may register online at https://www.sam.gov.

Additional information on implementing the Transparency Act, including the specific requirements for DUNS and SAM, can be found on the IHS Grants Management, Grants Policy Web site: https://www.ihs.gov/dgm/index.cfm?module=dsp_dgm_policy_topics.

V. Application Review Information

The instructions for preparing the application statement of need, project narrative, budget and budget narrative also constitute the evaluation criteria for reviewing and scoring the application. Weights assigned to each section are noted in parentheses. The 20 page narrative should include activities for the proposed one-year project. The statement of need, project narrative, budget and budget narrative sections should be written in a manner that is clear to outside reviewers unfamiliar with prior related activities of the applicant. It should be well organized, succinct, and contain all information necessary for reviewers to understand the project fully. Points will be assigned to each evaluation criteria adding up to a total of 100 points. A minimum score of 65 points is required for funding. Points are assigned as follows:

1. Criteria

Applications will be reviewed and scored according to the quality of responses to the required application components in Sections A-E.

• In developing the Statement of Need, Project Narrative, Budget and Budget Narrative sections of the application, use the instructions provided for each section, which have been tailored to this program.

• The Statement of Need should not exceed two single-spaced pages.

• The Project Narrative (required components, Sections A-E, in “Requirements for Project Proposals”) together should not exceed 20 single-spaced pages.

• The Budget and Budget Narrative the applicant provides will be considered by reviewers in assessing the applicant's response, along with the material in the Project Narrative. The budget and budget narrative must not exceed four single-spaced pages.

• The applicant must use the five sections (Sections A-E) listed below in developing the: 1) Statement of Need (Section A); 2) Project Narrative (Sections B, C and D); and 3) Budget and Budget Narrative (Section E). The applicant must place the required information in the correct section, or it will not be considered. The application will be scored according to how well the applicant addresses the requirements for each section of the Statement of Need, Project Narrative, Budget and Budget Narrative.

• The number of points after each heading is the maximum number of points a review committee may assign to that section. Although scoring weights are not assigned to individual bullets, each bullet is assessed in deriving the overall section score.

Section A: Statement of Need (35 Points)

1. Identify the proposed catchment area and provide demographic information on the population(s) to receive services through the targeted systems or agencies, e.g., race, ethnicity, Federally recognized Tribe, language, age, socioeconomic status, sexual identity (sexual orientation, gender identity) and other relevant factors, such as literacy. Describe the stakeholders and resources in the catchment area that can help implement the needed infrastructure development.

2. Based on the information and/or data currently available, document the prevalence of domestic and sexual violence.

3. Based on the information and/or data currently available, document the need for an enhanced infrastructure to increase the capacity to implement, sustain, and improve effective domestic and sexual violence services in the proposed catchment area that is consistent with the purpose of the program and the intent of the funding opportunity announcement. Based on current available data, describe the service gaps and other problems related to the need for infrastructure development. Identify the source of the data. Documentation of need may come from a variety of qualitative and quantitative sources. Examples of data sources for the quantitative data that could be used are local epidemiologic data (Tribal Epidemiology Centers, IHS area offices), state data (e.g., from state needs assessments, Substance Abuse and Mental Health Services Administration's (SAMHSA) National Survey on Drug Use and Health), and/or national data (e.g., from Centers for Disease Control and Department of Justice or Census data). This list is not exhaustive; applicants may submit other valid data, as appropriate for the applicant's program.

4. Describe the existing behavioral health service gaps, barriers, and other systemic challenges related to the need for planning and infrastructure development and coordination of domestic and sexual violence services.

5. Describe potential project partners and community resources in the catchment area that can participate in the planning process and infrastructure development.

6. Affirm the goals of the project are consistent with priorities of the Tribal government or board of directors and that the governing body is in support of this application.

Section B: Project Narrative/Proposed Approach/Project Plan (20 Points)

1. Describe the purpose of the proposed project, including a clear statement of goals and objectives. Describe how achievement of goals will increase system capacity to support effective domestic and sexual violence.

2. Describe how project activities will increase the capacity of the identified community to plan and improve the coordination of a collaborative service system for victims of domestic and sexual violence. Describe anticipated barriers to progress of the project and how these barriers will be addressed.

3. Discuss how the proposed approach addresses the local language, concepts, attitudes, norms and values about domestic and sexual violence.

4. Describe how the proposed project will address issues of diversity within the population of focus including age, race, gender, ethnicity, culture/cultural identity, language, sexual orientation, disability, and literacy.

5. Describe how members of the community (including youth and families that may receive services) will be involved in the planning, implementation, and performance assessment of the project.

6. Describe how the efforts of the proposed project will be coordinated with any other related Federal grants, including IHS, SAMHSA, or Bureau of Indian Affairs (BIA) services provided in the community (if applicable).

7. Provide a timeline chart depicting a realistic timeline for the entire project period showing key activities, milestones, and responsible staff. These key activities should include the requirements outlined in the chosen Purpose Area. [Note: The timeline chart should be part of the Project Narrative as specified in the “Requirements for Project Proposals” section. It should not be placed in as an attachment.]

8. If the applicant plans to include an advisory body in the project, describe its membership, roles and functions, and frequency of meetings.

9. Identify any other organization(s) that will participate in the proposed project. Describe their roles and responsibilities and demonstrate their commitment to the project. Include a list of these organizations as an attachment to the project proposal/application. In the attached list, indicate the organizations that the Tribe/Tribal organization or UIHP has worked with or currently works with. [Note: The attachment will not count as part of the 20-page maximum.]

Section C: Organizational Capacity (15 Points)

1. Describe the management capability and experience of the applicant Tribe, Tribal organization, or UIHP and other participating organizations in administering similar grants and projects.

2. Discuss the applicant Tribe, Tribal organization, or UIHP experience and capacity to provide culturally appropriate/competent services to the community and specific populations of focus.

3. Describe the resources available for the proposed project (e.g., facilities, equipment, information technology systems, and financial management systems).

4. Describe how program continuity will be maintained if/when there is a change in the operational environment (e.g., staff turnover, change in project leadership, change in elected officials) to ensure stability over the life of the grant.

5. Provide a complete list of staff positions for the project, including the Project Director, Project Coordinator, and other key personnel, showing the role of each and their level of effort and qualifications.

6. Include position descriptions as attachments to the project proposal/application for the Project Director, Project Coordinator, and all key personnel. Position descriptions should be no longer than one page each. [Note: Attachments will not count against the 20 page maximum].

7. For staff that are identified and currently on staff, include a biographical sketch (not to include personally identifiable information) for the Project Director, Project Coordinator, and other key positions as attachments to the project proposal/application. Each biographical sketch should not exceed one page. Reviewers will not consider information past page one.

Note: [Attachments will not count against the 20 page maximum.]

Do not include any of the following:

i. Personally Identifiable Information;

ii. Resumes; or

iii. Curriculum Vitae

Section D: Local Data Collection and Program Evaluation (20 Points)

Describe the applicant's plan for gathering local data, submitting data requirements, and document the applicant's ability to ensure accurate data tracking and reporting.

Funded projects are required to coordinate data collection efforts with a regional (IHS Area) evaluator. The regional evaluators will be identified and funded by IHS and coordinated with each local project and will feed the regional and national evaluation for DVPI. Awardees will work with the regional evaluator(s) to evaluate the core processes, outcomes, impacts, and benefits associated with the DVPI. Awardees shall collect local data related to the project and submit it in semi-annual progress reports. The data collected and submitted through the progress reports will be made available to the regional and national evaluator(s) for DVPI. The purpose of the regional and national evaluation is to assess the extent to which the projects are successful in achieving project goals and objectives and to determine the impact of DVPI-related activities on individuals and the larger community.

Progress reporting will be required on national and regionally selected data elements related to program outcomes and financial reporting for all awardees. Progress reports will be collected semi-annually throughout the project on a web-based portal. Progress reports include the compilation of quantitative (numerical) data (e.g., number served; screenings completed, etc.) and of qualitative or narrative (text) data. The regional and national evaluators will also coordinate the narrative data collection and provide an analysis of funded projects' responses to open-ended questions about “program accomplishments,” “barriers to implementation,” and description of partnership and coalition work.

The reporting portal will be open to project staff on a 24 hour/7 day week basis for the duration of each reporting period. Reporting form formats allow awardees to report outcomes and include open-ended questions about current accomplishments and barriers during the reporting period. In addition, financial report forms (SF-425), which document funds received and expended during the semi-annual reporting period, will be available. All materials will be provided on the portal and are to be submitted online. Technical assistance for web-based data entry and for the completion of required fiscal documents will be timely and readily available to awardees by assigned IHS Project Officers.

Section E: Budget and Justification (10 Points)

The applicant is required to include a line item budget for all expenditures identifying reasonable and allowable costs necessary to accomplish the goals and objectives as outlined in the project narrative for Project Year 1 only. The budget should match the scope of work described in the project narrative for the first project year expenses only. The page limitation should not exceed four single-spaced pages.

The applicant must provide a narrative justification of the items included in the proposed budget supporting the mission and goals of DVPI, as well as a description of existing resources and other support the applicant expects to receive for the proposed project. Other support is defined as funds or resources, whether Federal, non-Federal or institutional, in direct support of activities through fellowships, gifts, prizes, in-kind contributions or non-Federal means. (This should correspond to Item #18 on the applicant's SF-424, Estimated Funding.) Provide a narrative justification supporting the development or continued collaboration with other partners regarding the proposed activities to be implemented.

Additional Documents Can Be Uploaded as Appendix Items in Grants.gov

• Work plan, logic model and/or time line for proposed objectives.

• Position descriptions for key staff.

• Consultant or contractor proposed scope of work and letter of commitment (if applicable).

• Current Indirect Cost Agreement.

• Organizational chart.

• Map of area identifying project location(s).

• Additional documents to support narrative (i.e. data tables, key news articles, etc.).

2. Review and Selection

Each application will be prescreened by DGM staff for eligibility and completeness as outlined in the funding announcement. Applications that meet the eligibility criteria shall be reviewed for merit by the ORC based on evaluation criteria in this funding announcement. The ORC could be composed of both Tribal, urban and Federal reviewers appointed by the IHS Program to review and make recommendations on these applications. The technical review process ensures selection of quality projects in a national competition for limited funding. Incomplete applications and applications that are non-responsive to the eligibility criteria will not be referred to the ORC. The applicant will be notified via email of this decision by the Grants Management Officer, DGM. Applicants will be notified by DGM, via email, to outline minor missing components (i.e., budget narratives, audit documentation, key contact form) needed for an otherwise complete application. All missing documents must be sent to DGM on or before the due date listed in the email of notification of missing documents required.

To obtain a minimum score for funding by the ORC, applicants must address all program requirements and provide all required documentation.

VI. Award Administration Information

1. Award Notices

The Notice of Award (NoA) is a legally binding document signed by the Grants Management Officer and serves as the official notification of the grant award. The NoA will be initiated by DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 65 points, and were deemed to be disapproved by the ORC, will receive an Executive Summary Statement from the IHS program office within 30 days of the conclusion of the ORC outlining the strengths and weaknesses of their application submitted. The IHS program office will also provide additional contact information as needed to address questions and concerns as well as provide technical assistance if desired.

Approved But Unfunded Applicants

Approved but unfunded applicants that met the minimum score of 65 points and were deemed by the ORC to be “Approved”, but were not funded due to lack of funding, will have their applications held by DGM for a period of one year. If additional funding becomes available during the course of FY 2015, the approved but unfunded application may be re-considered by the awarding program office for possible funding. The applicant will also receive an Executive Summary Statement from the IHS program office within 30 days of the conclusion of the ORC.

Note: Any correspondence other than the official NoA signed by an IHS Grants Management Official announcing to the Project Director that an award has been made to their organization is not an authorization to implement their program on behalf of IHS.

2. Administrative Requirements

Grants are administered in accordance with the following regulations, policies, and OMB cost principles:

A. The criteria as outlined in this program announcement.

B. Administrative Regulations for Grants:

• Uniform Administrative Requirements HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of IDC in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with DGM at the time of award, the IDC portion of the budget will be restricted. The restrictions remain in place until the current rate is provided to DGM.

Generally, IDC rates for IHS grantees are negotiated with the Division of Cost Allocation (DCA) https://rates.psc.gov/ and the Department of Interior (Interior Business Center) http://www.doi.gov/ibc/services/Indirect_Cost_Services/index.cfm. For questions regarding the indirect cost policy, please call the Grants Management Specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: 1) the imposition of special award provisions; and 2) the non-funding or non-award of other eligible projects or activities. This requirement applies whether the delinquency is attributable to the failure of the grantee organization or the individual responsible for preparation of the reports. Reports must be submitted electronically via GrantSolutions. Personnel responsible for submitting reports will be required to obtain a login and password for GrantSolutions. Please see the Agency contacts list in section VII for the systems contact information.

The reporting requirements for this program are noted below.

A. Progress Reports

Progress reports are required annually through the national DVPI online progress report data portal, within thirty (30) days after the budget period ends. These reports must include a brief comparison of actual accomplishments to the goals established for the reporting period, or, if applicable, provide sound justification for the lack of progress, and other pertinent information as required. A final report must be submitted within ninety (90) days of expiration of the budget/project period.

B. Financial Reports

Federal Financial Report FFR (SF-425), Cash Transaction Reports are due thirty (30) days after the close of every calendar quarter to the Payment Management Services, HHS at: http://www.dpm.psc.gov. It is recommended that the applicant also send a copy of the FFR (SF-425) report to the Grants Management Specialist. Failure to submit timely reports may cause a disruption in timely payments to the organization.

Grantees are responsible and accountable for accurate information being reported on all required reports: the Progress Reports and Federal Financial Report (SF-425).

C. Federal Sub-Award Reporting System (FSRS)

This award may be subject to the Transparency Act sub-award and executive compensation reporting requirements of 2 CFR part 170.

The Transparency Act requires OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the project period is made up of more than one budget period) and where: 1) the project period start date was October 1, 2010 or after and 2) the primary awardee will have a $25,000 sub-award obligation dollar threshold during any specific reporting period will be required to address the FSRS reporting. For the full IHS award term implementing this requirement and additional award applicability information, visit DGM Grants Policy Web site at: https://www.ihs.gov/dgm/index.cfm?module=dsp_dgm_policy_topics.

Telecommunication for the hearing impaired is available at: TTY (301) 443-6394.

VII. Agency Contacts

1. Questions on the programmatic issues may be directed to: Beverly Cotton, Director, IHS Division of Behavioral Health, 801 Thompson Avenue, Rockville, MD 20874, Phone: (301) 443-2038, Fax: (301) 443-7623, Email: dbh@ihs.gov.

2. Questions on grants management and fiscal matters may be directed to: Patience Musikikongo, GMS, IHS Division of Grants Management, 801 Thompson Ave, TMP Suite 379, Rockville, MD 20874, Phone: (301) 443-2059, Fax: (301) 443-9602, Patience.Musikikongo@ihs.gov.

3. Questions on systems matters may be directed to: Paul Gettys, Grant Systems Coordinator, 801 Thompson Avenue, TMP Suite 360, Rockville, MD 20852, Phone: (301) 443-2114; or the DGM main line (301) 443-5204, Fax: (301) 443-9602, E-Mail: Paul.Gettys@ihs.gov.

VIII. Other Information

The Public Health Service strongly encourages all cooperative agreement and contract recipients to provide a smoke-free workplace and promote the non-use of all tobacco products. In addition, Pub. L. 103-227, the Pro-Children Act of 1994, prohibits smoking in certain facilities (or in some cases, any portion of the facility) in which regular or routine education, library, day care, health care, or early childhood development services are provided to children. This is consistent with the HHS mission to protect and advance the physical and mental health of the American people.

Dated: June 30, 2015.
Robert G. McSwain,
Acting Director, Indian Health Service.

[FR Doc. 2015-16750 Filed 7-7-15; 8:45 am]

BILLING CODE 4165-16-P